DEPARTMENT OF TRANSPORTATION

Federal Highway Administration and Federal Railroad Administration

Environmental Impacts Statement: New York/New Jersey

AGENCY: Federal Highway Administration (FHWA), Federal Railroad Administration (FRA).

ACTION: Notice of meeting.

SUMMARY: Notice of Public Scoping Meetings in Preparation of a Draft Environmental Impact Statement for the Cross Harbor Freight Movement Project.

The New York City Economic Development Corporation (NYCEDC), as project sponsor, in coordination with the Federal Highway Administration (FHWA) and the Federal Railroad Admininstration (FRA) as joint lead agencies, is preparing an Environmental Impact Statement (EIS) for the Cross Harbor Freight Movement Project. As part of the Cross Harbor Freight Movement Project, strategies for enhancing freight mobility within the New York City/northern New Jersey region are being evaluated. A Major Investment Study (MIS), completed in 2000, identified several strategies that satisfied established project goals and objectives. The purpose of the EIS is to examine the ability of the selected strategies to improve mobility of goods traffic, improve environmental quality, enhance the region's competitive position and provide flexibility to respond to possible service disruptions to the region's vital Hudson River Crossings.

NYCEDC will conduct seven (7) public scoping meetings to discuss the proposed draft scope of work for the Draft Environmental Impact Statement (DEIS), and will accept comments from the public. The draft scope of work is available for viewing on-line at www.crossharborstudy.org. One copy of the draft scope of work will also be available at the following libraries. Manhattan, New York Public Library at 188 Madison Ave.; Queens, Queens Borough Public Library at 89-11 Merrick Blvd.; Bronx, Bronx Borough Library at 2556 Bainbridge Ave.; Staten Island, SI Borough Library at 5 Central Avenue; Brooklyn, Brooklyn Public Library Sunset Park at 5108 4th Ave. (at 51st St.); Jersey City, Jersity City Public Library at 472 Jersey Ave.; Elizabeth, Elizabeth Public Library at 11 South Broad St.

DATES: The seven (7) meetings will be held at the following locations within the New York/New Jersey metropolitan area:

Tuesday, January 15, 2002, 11 am-3 pm NYCEDC, 110 William Street, 4th Floor, NY, NY 10038

Thursday, January 17, 2002, 5 pm-8 pm Snug Harbor Manor, Lower Great Hall Room, 1000 Richmond Terrace, Staten Island, NY 10301

Tuesday, January 22, 2002, 5 pm-8 pm Hostos College, Savoy Multi-Purpose Room, East 149th Street/Walton Avenue, Bronx, NY 10451

Wednesday, January 23, 2002, 5 pm-8 pm PS 1, 309 47th Street, (b/w 3rd-4th Aves.), Brooklyn, NY 11220

Tuesday, January 29, 2002, 5 pm-8 pm LaGuardia College, 31-10 Thomson Avenue, L.I.C., NY 11101

Wednesday, January 30, 2002, 11 am-3 pm Jersey City City Hall, Council Chambers, 280 Grove Street, Jersey City, NJ 07302

Wednesday, January 30, 2002, 5 pm-8 pm Elizabeth High School, 600 Pearl Street, Elizabeth, New Jersey 07202

FOR FURTHER INFORMATION CONTACT:

Ms. Alice Cheng, Director, Intermodal Planning, a New Economic Development Corporation, 110 William Street, 6th floor, New York, NY 10038, telephone (212) 619-5000, e-mail “acheng@nyedc.com”

or

Richard E. Backlund, Intermodal Transporation Coordinator, Federal Highway Administration, New York Division, One Bowling Green, Room 428, New York, NY 1004-1415, telephone (212) 668-2205, e-mail “richard.backlund@fhwa.dot.gov”

or

Michael Saunders, Northeast Corridor Program Manager, Federal Railroad Administration, 628-2 Hebron Avenue, Suite 303, Glastonbury, Connecticut 06033-5007, telephone (860) 659-6714, e-mail “michael.saunders@fhwa.dot.gov”

SUPPLEMENTARY INFORMATION: Registration to speak will begin at the meeting start time and end one half-hour before the meeting end time. All registered speakers will be heard. The public will be able to present oral comments and can register one the day of the meeting or in advance by calling the project information line at 1-877-XHAR EIS (942-7347), or e-mailing the project at crossharbor@astvinc.com. Written comments can be presented at the meeteings, e-mailed to crossharbor@stvinc.com or mailed to Cross Harbor Freight Movement Project, 225 Park Avenue South, NY, NY 10003. the deadline for submitting comments is February 28, 2002. Due to heightened security, a photo ID is required to enter the above-mentioned locations. Please allow additional travel time to sign-in at the security desk.

Authority: 23 U.S.C. 315; 23 CFR 771.123.

Dated: November 28, 2001.
Richard E. Backlund,
Intermodal Transportation Coordiantor.

[FR Doc. 01-30328 Filed 12-6-01; 8:45 am]

BILLING CODE 4910-22-M